COMMITTEE FOR THE IMPLEMENTATION OF TEXTILE AGREEMENTS

Extension of the Temporary Amendment to the Requirements for Participating in the Special Access Program and the Outward Processing Program

November 5, 2002.

AGENCY: Committee for the Implementation of Textile Agreements (CITA).

ACTION: Issuing a directive to the Commissioner of Customs extending amendments of requirements for participation in the Special Access Program for a temporary period.

EFFECTIVE DATE: January 1, 2003.

FOR FURTHER INFORMATION CONTACT: Richard Stetson, International Trade Specialist, Office of Textiles and Apparel, U.S. Department of Commerce, (202) 482-3400.

SUPPLEMENTARY INFORMATION:

Authority: Section 204 of the Agricultural Act of 1956, as amended (7 U.S.C. 1854); Executive Order 11651 of March 3, 1972, as amended.

To qualify for treatment under the Special Access Program and Outward Processing Program, an apparel product must be assembled in an appropriate country from fabric formed and cut in the United States, including linings and pocketing, except that findings and trimmings of non-U.S. origin may be incorporated into the assembled product provided they do not exceed 25 percent of the cost of the components of the assembled product.

CITA currently allows certain linings to be considered findings and trimmings provided they are cut in the United States, exempting them from the requirement that such fabrics be formed in the United States. (63 FR 70112, as amended by 64 FR 149). A notice published in the Federal Register on September 11, 2002 requested public comments on CITA's intention to extend the current exemption period through December 31, 2004 (see 67 FR 57580).

After a review of the comments received, CITA has determined that it will extend the exemption period through December 31, 2004, effective January 1, 2003. This exemption applies to women's and girls' and men's and boys' chest type plate, “hymo” piece or “sleeve header” of woven or weft-inserted warp knit construction of coarse animal hair or man-made filaments used in the manufacture of tailored suit jackets and suit-type jackets in Categories 433, 435, 443, 444, 633, 635, 643 and 644, which are entered under the Special Access Program and Outward Processing Program.

A description of the textile and apparel categories in terms of HTS numbers is available in the CORRELATION: Textile and Apparel Categories with the Harmonized Tariff Schedule of the United States (see Federal Register notice 66 FR 65178, published on December 18, 2001).

James C. Leonard III,
Chairman, Committee for the Implementation of Textile Agreements.

Committee for the Implementation of Textile Agreements

November 5, 2002.

Commissioner of Customs,

Department of the Treasury, Washington, DC 20229.

Dear Commissioner: This directive amends, but does not cancel, the directives issued to you on December 14, 1998, December 24, 1998, December 9, 1999, and December 21, 2000, by the Chairman, Committee for the Implementation of Textile Agreements. Those directives concern the foreign origin exception for findings and trimmings in Categories 433, 435, 443, 444, 633, 635, 643 and 644 under the Special Access Program which was amended and extended through December 31, 2002 for women's and girls' “hymo” type interlinings and for men's and boys' “hymo” type interlinings.

Effective on January 1, 2003, by date of export, you are directed to extend through December 31, 2004, the amendment to treat non-U.S. formed, U.S.-cut interlinings for chest type plate, “hymo” piece or “sleeve header” of woven or weft-inserted warp knit construction of coarse animal hair or man-made filaments used in the manufacture of tailored suit jackets and suit-type jackets in Categories 433, 443, 633 and 643 as qualifying for findings and trimmings, including elastic strips less than one inch in width, created under the Special Access Program effective September 1, 1986 (see 51 FR 21208). In the aggregate, such interlinings, findings and trimmings must not exceed 25 percent of the cost of the components of the assembled article. Non-U.S. formed, U.S.-cut interlinings may be used in imports of women's' and girls' and men's and boys' suit jackets and suit-type jackets entered under the Special Access Program (9802.00.8015) provided they are cut in the United States of a type of construction described above.

The Committee for the Implementation of Textile Agreements has determined that this action falls within the foreign affairs exception of the rulemaking provisions of 5 U.S.C. 553(a)(1).

Sincerely,

James C. Leonard III,

Chairman, Committee for the Implementation of Textile Agreements.

[FR Doc.02-28765 Filed 11-12-02; 8:45 am]

BILLING CODE 3510-DR-S